DEPARTMENT OF HEALTH AND HUMAN SERVICES

National Institutes of Health

Center for Scientific Review; Amended Notice of Meeting

Notice is hereby given of a change in the meeting of the Center for Scientific Review Special Emphasis Panel, March 19, 2007, 8 a.m. to March 21, 2007, 10 p.m., National Institutes of Health, 6701 Rockledge Drive, Bethesda, MD 20892 which was published in the Federal Register on March 7, 2007, 72 FR 10234-10235.

The meeting will be held April 16, 2007 to April 18, 2007. The meeting time and location remain the same. The meeting is closed to the public.

Dated: March 12, 2007.
Anna Snouffer,
Acting Director, Office of Federal Advisory Committee Policy.

[FR Doc. 07-1446 Filed 3-23-07; 8:45 am]

BILLING CODE 4140-01-M